DEPARTMENT OF HEALTH AND HUMAN SERVICES

National Institutes of Health

Center for Scientific Review; Amended Notice of Meeting

Notice is hereby given of a change in the meeting of the Social Sciences and Population Studies B Study Section, October 23, 2013, 08:00 a.m. to October 23, 2013, 06:00 p.m., Embassy Suites Baltimore Downtown, 222 St. Paul Place, Baltimore, MD, 21202 which was published in the Federal Register on October 01, 2013, 78 FR 190 Pgs. 60294-60296.

The meeting will be held at National Institutes of Health, 6701 Rockledge Dr., Bethesda, MD 20892. The meeting will start on December 18 at 08:30 a.m. and end on December 18, 2013 at 5:00 p.m. The meeting is closed to the public.

Dated: October 25, 2013.
Anna Snouffer,
Deputy Director, Office of Federal Advisory Committee Policy.

[FR Doc. 2013-25771 Filed 10-29-13; 8:45 am]

BILLING CODE 4140-01-P